DEPARTMENT OF DEFENSE

Office of the Secretary

Scoping Period Extension for the Environmental Impact Statement (EIS) for the Long Range Discrimination Radar (LRDR) at Clear Air Force Station (CAFS)

AGENCY: Missile Defense Agency, Department of Defense.

ACTION: Notice of decision to extend the scoping period for the Environmental Impact Statement (EIS) for the Long Range Discrimination Radar (LRDR) at Clear Air Force Station (CAFS).

SUMMARY: The Missile Defense Agency (MDA) has decided to extend the scoping period for the Environmental Impact Statement (EIS) for the Long Range Discrimination Radar (LRDR) at Clear Air Force Stations (CAFS) that published in the Federal Register on May 17, 2019. The EIS is being prepared in accordance with the National Environmental Policy Act (NEPA) of 1969 and the Council on Environmental Quality Regulations for Implementing the Procedural Provisions of NEPA. MDA began construction of the LRDR following a 2016 Environmental Assessment and Finding of No Significant Impact (FONSI). Due to threat evolution, operational requirements have created the need to expand the current Special Use Airspace (SUA) at Clear Air Force Station (AFS) to protect nearby aircraft. Several potential designs of the additional SUA have been developed. The MDA is preparing the EIS to evaluate potential environmental impacts that could result from the LRDR SUA alternatives. The Department of Defense has not selected a preferred alternative for the proposed SUA.

DATES: Interested persons are invited to submit comments on or before July 5, 2019.

ADDRESSES: Written comments, statements, and/or concerns regarding the scope of the EIS or requests to be added to the EIS distribution list should be addressed to MDA CAFS EIS and sent by email to info@cleareis.com, by facsimile 907-644-2022, or by U.S. Postal Service to Clear EIS c/o HDR, Inc., 2525C Street, Suite 500, Anchorage, AK 99503. Electronic or facsimile comments are preferred. If sending comments by U.S. Postal Service, please do not submit duplicate electronic or facsimile comments. All comments, including names and addresses, will be included in the administrative record.

FOR FURTHER INFORMATION CONTACT: Mark Wright, MDA Public Affairs at 256-450-1599 or by email: mda.info@mda.mil. Additional information can be found at MDA's website: https://www.mda.mil/news/nepa_documents.html.

SUPPLEMENTARY INFORMATION: MDA invites interested agencies, organizations, and members of the public to submit comments or suggestions to assist in identifying significant environmental issues, measures that might be adopted to reduce environmental impacts, and in determining the appropriate scope of the EIS. The public scoping period began with the publication of a Notice of Intent to Prepare an Environmental Impact Statement in the Federal Register on May 17, 2019 (84 FR 22479-22480). Written, electronic, and oral comments will be given equal weight and MDA will consider all comments received or postmarked by July 5, 2019 in defining the scope of the EIS. Comments received or postmarked after that date may be considered to the extent practicable.

Public scoping periods are designed to provide opportunities to offer comments on the environmental review for the proposed project. Interested individuals and groups are encouraged to present comments on the environmental issues they believe should be addressed in the EIS consistent with NEPA and its implementing regulations.

The EIS will support the FAAs SUA rule-making process and meet National Historic Preservation Act requirements, including Section 106 Consultation.

Dated: June 4, 2019.
Aaron T. Siegel,
Alternate OSD Federal Register Liaison Officer, Department of Defense.

[FR Doc. 2019-12099 Filed 6-7-19; 8:45 am]

BILLING CODE 5001-06-P